DEPARTMENT OF THE INTERIOR

Office of the Secretary

Blackstone River Valley National Heritage Corridor Commission; Notice of Meeting

Notice is hereby given in accordance with Section 552b of Title 5, United States Code, that a meeting of the John H. Chafee Blackstone River Valley National Heritage Corridor Commission will be held on Thursday, May 21, 2009.

The Commission was established pursuant to Public Law 99-647. The purpose of the Commission is to assist Federal, State and local authorities in the development and implementation of an integrated resource management plan for those lands and waters within the Corridor.

The meeting will convene on May 21, 2009 at 9 a.m. at the Blackstone Valley Regional Vocational Technical High School, located at 65 Pleasant Street, Upton, MA for the following reasons:

1. Approval of Minutes.

2. Chairman's Report.

3. Executive Director's Report.

4. Financial Budget.

5. Public Input.

It is anticipated that about thirty people will be able to attend the session in addition to the Commission members.

Interested persons may make oral or written presentations to the Commission or file written statements. Such requests should be made prior to the meeting to: Jan H. Reitsma, Executive Director, John H. Chafee, Blackstone River Valley National Heritage Corridor Commission, One Depot Square, Woonsocket, RI 02895, Tel.: (401) 762-0250.

Further information concerning this meeting may be obtained from Jan H. Reitsma, Executive Director of the Commission at the aforementioned address.

Jan H. Reitsma,
Executive Director, BRVNHCC.

[FR Doc. E9-8322 Filed 4-10-09; 8:45 am]

BILLING CODE 4310-RK-P